NATIONAL FOUNDATION ON THE ARTS AND HUMANITIES

Public Availability of the National Endowment for the Humanities FY 2012 Service Contract Inventory

AGENCY: National Endowment for the Humanities.

ACTION: Notice of Public Availability of FY 2012 Service Contract Inventories.

SUMMARY: In accordance with Section 743 of Division C of the Consolidated Appropriations Act of 2010 (Pub. L. 111-117), the National Endowment for the Humanities (NEH) is publishing this notice to advise the public of the availability of the FY 2012 Service Contract Inventory. This inventory provides information on service contract actions over $25,000 that were made in FY 2012. The information is organized by function to show how contracted resources are distributed throughout the agency. The inventory has been developed in accordance with guidance issued on November 5, 2010 and December 19, 2011 by the Office of Management and Budget's Office of Federal Procurement Policy (OFPP). OFPP's guidance is available at www.whitehouse.gov/omb/procurement-service-contract-inventories. NEH has posted its FY 2012 inventory on its Web site at the following link: www.neh.gov/about/legal/reports.

FOR FURTHER INFORMATION CONTACT: Questions regarding the service contract inventory should be directed to Barry Maynes in the Administrative Services Office at (202) 606-8233 or bmaynes@neh.gov.

Dated: February 4, 2013.
Michael P. McDonald,
General Counsel and Federal Register Liaison Officer.

[FR Doc. 2013-02785 Filed 2-6-13; 8:45 am]

BILLING CODE 7536-01-P